DEPARTMENT OF AGRICULTURE

Forest Service

McNally Fire Restoration Projects

AGENCY: Forest Service, USDA.

ACTION: Notice of meeting.

SUMMARY: The Sequoia National Forest will host a field trip on Saturday, November 22, 2003, to visit the McNally Fire/Sherman Pass Restoration (Sherman Pass) and McNally Fire Roadless Restoration (Roadless) Projects. The purpose of the meeting is to aid the participants in the review and understanding of the two projects through on-the-ground discussions. Both of these projects are expected to have Draft Environmental Impact Statements (DEIS) available for public review and comment sometime in November. We will travel to several key locations that will focus attention on the Sherman Pass and Roadless DEISs, proposed actions, and environmental effects.

DATES: The meeting will be held Saturday, November 22, 2003, from 9 a.m. to 3 p.m., Pacific daylight time.

Addresses: Members of the public should meet at the Cannell Meadow Ranger District Office, 105 Whitney, Kernville, California.

FOR FURTHER INFORMATION CONTACT: To receive further information, contact Cindy Thill, (760) 376-3781, extension 625.

SUPPLEMENTARY INFORMATION: The Sherman Pass project involves the areas with roads in them on the Kern Plateau. Of particular interest is the approximately 4,900 acres of conifer stands severely damaged or destroyed by the fire. The analysis area is over 20,000 acres.

The Roadless project involves inventoried roadless areas outside of the Giant Sequoia National Monument. Again, of particular interest is the approximately 11,000 acres of conifer stands severely damaged or destroyed by fire. The analysis area is over 60,000 acres.

The meeting is open to the public. If you are planning to attend, please contact Cindy Thill at the Cannell Meadow Ranger District by November 17. Some transportation will be available, but we will also rely on participants to provide assistance in transporting people in the sites. Please bring your own lunch and wear appropriate field clothing. The meeting is accessible to persons with disabilities. If you need accommodations, please contact Cindy Thill at the number provided.

Dated: October 20, 2003.
Arthur L. Gaffrey,
Forest Supervisor, Sequoia National Forest.

[FR Doc. 03-26832 Filed 10-23-03; 8:45 am]

BILLING CODE 3410-11-M